DEPARTMENT OF TRANSPORTATION

Federal Transit Administration

Alternative Transportation in Parks and Public Lands Program

AGENCY: Federal Transit Administration, DOT.

ACTION: Announcement of Project Selections.

SUMMARY: The U.S. Department of Transportation (DOT) Federal Transit Administration (FTA) announces the selection of projects to be funded under Fiscal Year (FY) 2007 appropriations for the Alternative Transportation in Parks and Public Lands (ATPPL) program, authorized by Section 3021 of the Safe, Accountable, Flexible, Efficient Transportation Equity Act—A Legacy for Users of 2005 (SAFETEA-LU) and codified in 49 U.S.C. 5320. The ATPPL program funds capital and planning expenses for alternative transportation systems in parks and public lands. Federal land management agencies and State, tribal and local governments acting with the consent of a Federal land management agency are eligible recipients.

FOR FURTHER INFORMATION CONTACT: Project sponsors who are State, local, or tribal entities may contact the appropriate FTA Regional Administrator (See Appendix A) for grant-specific issues. Project sponsors who are a Federal land management agency or a specific unit of a Federal land management agency should work with the contact listed below at their headquarters office to coordinate the availability of funds to that unit.

• Bureau of Land Management: Linda Force, Linda_Force@blm.gov, 202-557-3567.

• Fish and Wildlife Service: Nathan Caldwell, nathan_caldwell@fws.gov, 703-358-2376.

• Forest Service: Ellen LaFayette, elafayette@fs.fed.us, 703-605-4509.

• National Park Service: Kevin Percival, Kevin_Percival@nps.gov, 303-969-2429.

For general information about the Alternative Transportation in the Parks and Public Lands program, please contact Scott Faulk, Office of Program Management, Federal Transit Administration, scott.faulk@fdot.gov, 202-366-1660.

SUPPLEMENTARY INFORMATION: A total of $23,000,000 was appropriated for FTA's ATPPL program in FY 2007. Of this amount, a maximum of $20,596,500 was available for project awards; $115,000 was reserved for oversight activities; and up to $2,300,000 was available for planning, research, and technical assistance. A total of 81 applicants requested $55 million, more than twice the amount available for projects, indicating strong competition for funds. An interagency technical review committee evaluated the project proposals based on the criteria defined in 49 U.S.C. 5320(g)(2). Then, as specified in Section 5320(g), the Secretary of the Interior's designee determined the final selection of projects after consultation with and in cooperation with the Secretary of Transportation's designee. For FY 2007, the program will fund 46 projects totaling $19,788,840.

The goals of the program are to conserve natural, historical, and cultural resources; reduce congestion and pollution; improve visitor mobility and accessibility; enhance visitor experience; and ensure access to all, including persons with disabilities through alternative transportation projects. The projects selected for funding in FY 2007 represent a diverse set of capital and planning projects across the country, ranging from bus purchases to a ferry dock.

FY2007 ATPPL Project Selection
State | Land unit/agency | Project description | Project type | Funding recipient | Amount ($)
AK | Glacier Bay NP and Preserve/National Park Service | Replace the existing Gustavus passenger and freight dock | Boat/Ferry/Dock | Direct Grant to Alaska Department of Transportation (D2007-ATPL-001) | $3,000,000
AK | Tongass National Forest/United States Forest Service | Design, procure, and implement an Intelligent Transportation System (ITS) | Other | Interagency Agreement with United States Forest Service | 500,000
AZ | Grand Canyon National Park/National Park Service | Implement an ITS that promotes transit use and reduced congestion | Other | Interagency Agreement with National Park Service | 193,000
AZ | Coronado National Forest, Santa Catalina Ranger District, Sabino Canyon Recreation Area/United States Forest Service | Fund a transportation analysis and feasibility study | Planning | Interagency Agreement with United States Forest Service | 180,000
CA | Muir Woods National Monument of the Golden Gate National Recreation Area/National Park Service | Lease ten clean fuel shuttle buses for Muir Woods shuttle service and improve the Muir Woods Centennial transit stop | Bus | Interagency Agreement with National Park Service | 492,500
CA | Sequoia and Kings Canyon National Parks/National Park Service | Lease five 30′ shuttle buses for the Giant Forest Shuttle System in Sequoia National Park | Bus | Interagency Agreement with National Park Service | 225,000
CA | Inyo National Forest Devils Postpile National Monument/United States Forest Service and National Park Service | Capital cost of leasing ten buses for the Red Meadows-Devils Postpile transit system Funds also to be used for visitor information on the transit system | Bus | Interagency Agreement with United States Forest Service | 100,000
CA | Yosemite National Park/National Park Service | Lease Yosemite Area Regional Transportation System (YARTS) Vehicles | Bus | Interagency Agreement with National Park Service | 264,600
CA | Yosemite National Park/National Park Service | Complete park wide Integrated Transportation Capacity Assessment | Planning | Interagency Agreement with National Park Service | 621,600
CA | Golden Gate National Recreation Area/National Park Service | Prepare operational plan for the Fort Baker Shuttle | Planning | Interagency Agreement with National Park Service | 70,000
CA | San Francisco Maritime National Historical Park, Golden Gate National Recreation Area/National Park Service | Prepare Environmental Impact Statement for the extension of the San Francisco Municipal Railway Historic Streetcar Route/Line | Planning | Interagency Agreement with National Park Service | 493,000
CO | The Maroon Bells—Snowmass Wilderness Area, White River National Forest/United States Forest Service | Purchase 2 hybrid electric low-floor buses and advance ITS technology initiatives to make transit within Maroon Bells, Snowmass Wilderness Area, and White River National Forest more efficient and user-friendly | Bus | Direct Grant to Roaring Fork Alternative Transportation Authority (D2007-ATPL-002) | 1,300,000
CO | U.S. Fish and Wildlife Service Rocky Mountain/Fish and Wildlife Service | Bus acquisition to facilitate alternative transportation within Rocky Mountain Arsenal National Wildlife Refuge | Bus | Interagency Agreement with Fish and Wildlife Service | 171,720
CO | Rocky Mountain National Park/National Park Service | Model the effects of alternative transportation on resource protection and visitor experience in Rocky Mountain National Park | Planning | Interagency Agreement with National Park Service | 298,817
FL | Gulf Islands National Seashore/National Park Service | Fund the Fort Pickens/Gateway Community Alternative Transportation Plan | Planning | Interagency Agreement with National Park Service | 250,000
MA | Cape Cod National Seashore/National Park Service | Purchase five 30′ low-floor mini-buses | Vehicle replacement | Interagency Agreement with National Park Service | 1,850,000
MA | Cape Cod National Seashore/National Park Service | Purchase a tram to facilitate alternative transportation | Tram/Trolley | Interagency Agreement with National Park Service | 450,000
MA | Lowell National Historic Park/National Park Service | Fund maintenance and safety improvements to the existing 1.5-mile trolley system | Tram/Trolley | Interagency Agreement with National Park Service | 409,650
MA | Monomoy National Wildlife Refuge, Cape Cod National Seashore/National Park Service and Fish and Wildlife Service | Fund a planning study that focuses on the expansion of alternative transportation in Outer and Lower Cape Cod | Planning | Interagency Agreement with Fish and Wildlife Service | 100,000
MA | Cape Cod National Seashore/National Park Service | Fund a study that develops an integrated parking and transit plan | Planning | Interagency Agreement with National Park Service | 250,000
MA | Boston Harbor Islands National Recreation Area/National Park Service | Rehabilitate the Ferry Hub Pier at Georges Island | Planning | Interagency Agreement with National Park Service | 100,000
MD | Fort McHenry National Monument and Historic Site/National Park Service | Reconfigure a transit vehicle node, which will provide a safe visitor access point to the park | Other | Interagency Agreement with National Park Service | 292,500
MD | Fort McHenry National Monument and Historic Site/National Park Service | Conduct a feasibility study to evaluate a circular trolley/transit system connecting Baltimore's Inner Harbor with Fort McHenry National Park | Planning | Interagency Agreement with National Park Service | 72,000
MD etc | Multiple Wildlife Refuges in Northeast (Region 5)/Fish and Wildlife Service | Research and design of a low environmental impact tram | Planning | Interagency Agreement with Fish and Wildlife Service | 248,000
MD/VA | Chincoteague National Wildlife Refuge, Assateague Island National Seashore/Fish and Wildlife Service and National Park Service | Conduct a comprehensive transportation planning study | Planning | Interagency Agreement with Fish and Wildlife Service | 270,000
ME | Acadia National Park/National Park Service | Purchase six propane buses | Vehicle replacement | Direct Grant to Maine Department of Transportation (D2007-ATPL-003) | 1,096,500
ME | Acadia National Park/National Park Service | Fund a study that evaluates existing conditions at all bus stops within Acadia National Park, and identify alternative designs and strategies to improve bus stops that pose a risk to visitor safety | Planning | Interagency Agreement with National Park Service | 80,000
MI | Hiawatha National Forest—Alger County Public Transit/United States Forest Service | Replace a passenger ferry, purchase a tour bus, rehabilitate a ferry dock, and construct a terminal facility | Bus | Interagency Agreement with United States Forest Service | 575,000
MT | Glacier National Park and Blackfeet Indian Reservation/National Park Service | Purchase transit vehicles for Glacier National Park Transit System | Bus | Interagency Agreement with National Park Service | 1,200,000
NJ | Sandy Hook Unit of Gateway National Recreation Area/National Park Service | Fund feasibility study on upgrading the Sandy Hook National Park's shuttle bus service | Planning | Interagency Agreement with National Park Service | 50,000
NV | Humboldt-Toiyabe National Forest/Spring Mountain National Recreation Area/United States Forest Service | Fund a pilot ski season shuttle project and provide operational data for bus service between Las Vegas and the Las Vegas Ski and Snowboard Resort | Bus | Interagency Agreement with United States Forest Service | 168,300
NY | Roosevelt-Vanderbilt National Historic Site/National Park Service | Fund a multi-year, seasonal field test at Roosevelt-Vanderbilt National Historic Site | Bus | Interagency Agreement with National Park Service | 226,800
NY | Fire Island National Seashore/National Park Service | Redesign and construct a ferry terminal/visitor transportation center | Boat/Ferry/Dock | Interagency Agreement with National Park Service | 200,000
OH | Cuyahoga Valley National Park/National Park Service | Upgrade Rockside Railroad Boarding Station Area | Planning | Interagency Agreement with National Park Service | 187,000
OR | Lewis and Clark National Historical Park/National Park Service | Fund shuttle bus leasing from Sunset Empire Transit District | Bus | Interagency Agreement with National Park Service | 43,000
PA | Gettysburg National Military Park; Eisenhower National Historic Site and the Soldiers National Cemetery/National Park Service | Procure three trolleys and construct eight bus stops | Bus | Direct Grant to Adams County Transit Authority (D2007-ATPL-004) | 787,353
PA | Valley Forge National Historical Park/National Park Service | Fund a pilot shuttle bus program at Valley Forge National Historical Park | Planning | Interagency Agreement with National Park Service | 168,000
TN | Kennesaw Mountain National Battlefield Park/National Park Service | Conduct a technical review of Kennesaw Mountain National Battlefield Park shuttle bus service | Planning | Interagency Agreement with National Park Service | 25,000
TX | Lower Rio Grande Valley National Wildlife Refuge | Purchase 10 transit vehicles to facilitate ecotourism at Texas parks, wildlife refuges, and the World Birding Center | Tram/Trolley | Interagency Agreement with Fish and Wildlife Service | 400,000
UT | Bureau of Land Management Moab Field Office, Arches National Park/Bureau of Land Management and National Park Service | Construct transit hub to be located on the north end of Moab near the banks of the Colorado River | Other | Direct Grant to Grand County, Utah (D2007-ATPL-005) | 774,000
UT | Zion National Park/National Park Service | Expansion of the Zion shuttle system's Visitor Center shuttle bus stop | Other | Interagency Agreement with National Park Service | 151,500
UT | Wasatch-Cache National Forest, Salt Lake Ranger District/United States Forest Service | Fund a transportation feasibility study for the Salt Lake City Tri-Canyons, Albion Basin area | Planning | Interagency Agreement with United States Forest Service | 204,000
UT | Zion National Park/National Park Service | Fund Zion National Park Shuttle Service Planning Study | Planning | Interagency Agreement with National Park Service | 150,000
VA | Colonial National Park/National Park Service | Conduct visitor survey and enhance operations for current transit system | Planning | Interagency Agreement with National Park Service | 95,000
WA | Wenatachee National Forest/United States Forest Service and National Park Service | Redesign the Lake Chelan Dock infrastructure | Planning | Interagency Agreement with United States Forest Service and National Park Service | 5,000
WY | National Elk Refuge and Grand Teton National Park/Fish and Wildlife Service and National Park Service | Construct a 4.2 mile trail system from National Elk Refuge Visitor Center to the end of the National Elk Refuge | Non-motorized | Direct Grant to Teton County (D2007-ATPL-006) | 1,000,000
Total |  |  |  |  | 19,788,840

Applying for Funds

Recipients who are State or local government entities will be required to apply for ATPPL funds electronically through FTA's electronic grant award and management system, TEAM. The content of these grant applications must reflect the approved proposal. (Note: Applications for the ATPPL program do not require Department of Labor Certification.) Upon grant award, payments to grantees will be made by electronic transfer to the grantee's financial institution through the Electronic Clearing House Operation (ECHO) system. Staff in FTA's Regional offices are available to assist applicants.

Recipients who are Federal land management agencies will be required to enter into an interagency agreement with FTA. FTA will administer one interagency agreement with each Federal land management agency receiving funding through the program for all of that agency's projects. Individual units of Federal land management agencies should work with the contact at their headquarters office listed above to coordinate the availability of funds to that unit.

Program Requirements

Section 5320 requires funding recipients to meet certain requirements. Program requirements can be found in the document “Alternative Transportation in Parks and Public Lands Program: Requirements for Recipients of FY 2007 Funding” available at http://www.fta.dot.gov/atppl. These requirements are incorporated into the grant agreements and inter-agency agreements used to fund the selected projects.

Pre-Award Authority

Pre-award authority allows an agency that will receive a grant or interagency agreement to incur certain project costs prior to receipt of the grant or interagency agreement and retain eligibility of the costs for subsequent reimbursement after the grant or agreement is approved. The recipient assumes all risk and is responsible for ensuring that all conditions are met to retain eligibility, including compliance with federal requirements such as the National Environmental Policy Act (NEPA), SAFETEA-LU planning requirements, and provisions established in the grant contract or Interagency Agreement. This automatic pre-award spending authority, when triggered, permits a grantee to incur costs on an eligible transit capital or planning project without prejudice to possible future Federal participation in the cost of the project or projects. Under the authority provided in 49 U.S.C. 5320(h), FTA is extending pre-award authority for FY 2007 ATTPL projects effective as of October 15, 2007, when the projects were publicly announced.

The conditions under which pre-award authority may be utilized are specified below:

a. Pre-award authority is not a legal or implied commitment that the project(s) will be approved for FTA assistance or that FTA will obligate Federal funds. Furthermore, it is not a legal or implied commitment that all items undertaken by the applicant will be eligible for inclusion in the project(s).

b. All FTA statutory, procedural, and contractual requirements must be met.

c. No action will be taken by the grantee that prejudices the legal and administrative findings that the Federal Transit Administrator must make in order to approve a project.

d. Local funds expended pursuant to this pre-award authority will be eligible for reimbursement if FTA later makes a grant or interagency agreement for the project(s). Local funds expended by the grantee prior to October 15, 2007 will not be eligible for credit toward local match or reimbursement. Furthermore, the expenditure of local funds on activities such as land acquisition, demolition, or construction, prior to the completion of the NEPA process, would compromise FTA's ability to comply with Federal environmental laws and may render the project ineligible for FTA funding.

e. When a grant for the project is subsequently awarded, the Financial Status Report, in TEAM-Web, must indicate the use of pre-award authority, and the pre-award item in the project information section of TEAM should be marked “yes.”

Reporting Requirements

All recipients must submit quarterly milestone/progress reports to FTA containing the following information:

(1) Narrative description of project(s); and,

(2) Discussion of all budget and schedule changes.

State and local government entities should submit this information through FTA's TEAM grants management system.

The headquarters office for each federal land management agency should collect a quarterly report for each of the projects delineated in the interagency agreement and then send these reports (preferably by e-mail) to Scott Faulk, FTA Office of Transit Programs, scott.faulk@dot.gov; 202-366-1660; 1200 New Jersey Avenue, SE.; E44-417; Washington, DC 20590. Examples can be found on the program Web site at http://www.fta.dot.gov/atppl. The quarterly reports are due to FTA on the dates noted below:

Quarter | Covering | Due date
1st Quarter Report | October 1-December 31 | January 31.
2nd Quarter Report | January 1-March 31 | April 30.
3rd Quarter Report | April 1-June 30 | July 31.
4th Quarter Report | July 1-September 31 | October 31.

In order to allow FTA to compute aggregate program performance measures as required by the President's Management Agenda, FTA requests that all recipients of funding for capital projects under the ATPPL program submit the following information annually:

• Annual visitation to the land unit;

• Annual number of persons who use the alternative transportation system (ridership/usage);

• An estimate of the number of vehicle trips mitigated based on alternative transportation system usage and the typical number of passengers per vehicle;

• Cost per passenger; and,

• A note of any special services offered for those systems with higher costs per passenger but more amenities.

State and local government entities should submit this information as part of their fourth quarter report through FTA's TEAM grants management system.

Federal land management agencies should also send this information as part of their fourth quarter report (preferably by e-mail), to Scott Faulk, FTA, scott.faulk@dot.gov; 202-366-1660; 1200 New Jersey Avenue, SE.; E44-417; Washington, DC 20590. Examples can be found on the program Web site at http://www.fta.dot.gov/atppl.

Oversight

Recipients of FY 2007 ATPPL funds will be required to certify that they will comply with all applicable Federal and FTA programmatic requirements. FTA direct grantees will complete this certification as part of the annual Certification and Assurances package, and Federal Land Management Agency recipients will complete the certification by signing the interagency agreement. This certification is the basis for oversight reviews conducted by FTA.

The Secretary of Transportation and FTA have elected not to apply the triennial review requirements of 49 U.S.C. 5307(h)(2) to ATPPL recipients that are other Federal agencies. Instead, working with the existing oversight systems at the Federal Land Management Agencies, FTA will perform periodic reviews of specific projects funded by the ATPPL program. These reviews will ensure that projects meet the basic statutory, administrative, and regulatory requirements as stipulated by this notice and the certification. To the extent possible, these reviews will be coordinated with other reviews of the project. FTA direct grantees of ATPPL funds (State, local and tribal government entities) will be subject to all applicable triennial, State management, civil rights, and other reviews.

Issued in Washington, DC, this 5th day of October, 2007.
James S. Simpson,
Administrator.

Appendix A—FTA Regional Offices

Region I

Connecticut, Maine, Massachusetts, New Hampshire, Rhode Island, and Vermont. Richard Doyle, FTA Regional Administrator, Kendall Square, 55 Broadway, Suite 920, Cambridge, MA 02142-1093, (617) 494-2055.

Region II

New Jersey and New York. Brigid Hynes-Cherin, FTA Regional Administrator, One Bowling Green, Room 429, New York, NY 10004-1415, (212) 668-2170.

Region III

Delaware, District of Columbia, Maryland, Pennsylvania, Virginia, and West Virginia. Letitia Thompson, FTA Regional Administrator, 1760 Market Street, Suite 500, Philadelphia, PA 19103-4124, (215) 656-7100.

Region IV

Alabama, Florida, Georgia, Kentucky, Mississippi, North Carolina, Puerto Rico, South Carolina, Tennessee, and Virgin Islands. Yvette Taylor, FTA Regional Administrator, 61 Forsyth Street, SW., Suite 17T50, Atlanta, GA 30303, (404) 865-5600.

Region V

Illinois, Indiana, Michigan, Minnesota, Ohio, and Wisconsin. Marisol Simon, FTA Regional Administrator, 200 West Adams Street, Suite 320, Chicago, IL 60606-5232, (312) 353-2789.

Region VI

Arkansas, Louisiana, New Mexico, Oklahoma, and Texas. Robert Patrick, FTA Regional Administrator, 819 Taylor Street, Room 8A36, Ft. Worth, TX 76102, (817) 978-0550.

Region VII

Iowa, Kansas, Missouri, and Nebraska. Mokhtee Ahmad, FTA Regional Administrator, 901 Locust Street, Suite 404, Kansas City, MO 64106, (816) 329-3920.

Region VIII

Colorado, Montana, North Dakota, South Dakota, Utah, and Wyoming. Terry Rosapep, FTA Regional Administrator, 12300 West Dakota, Suite 310, Lakewood, CO 80228-2583, (720) 963-3300.

Region IX

American Samoa, Arizona, California, Guam, Hawaii, Nevada, and the Northern Mariana Islands. Leslie Rogers, FTA Regional Administrator, 201 Mission Street, Suite 2210, San Francisco, CA 94105-1839, (415) 744-3133.

Region X

Alaska, Idaho, Oregon, and Washington. Richard F. Krochalis, FTA Regional Administrator, Jackson Federal Building, 915 Second Avenue, Suite 3142, Seattle, WA 98174-1002, (206) 220-7954.

[FR Doc. E7-20213 Filed 10-12-07; 8:45 am]

BILLING CODE 4910-57-P